DEPARTMENT OF TRANSPORTATION

Federal Aviation Administration

14 CFR Part 91

[Docket No.: FAA-2013-0485; Amdt. No. 91-345B]

RIN 2120-AJ94

Revisions to Operational Requirements for the Use of Enhanced Flight Vision Systems (EFVS) and to Pilot Compartment View Requirements for Vision Systems; Correcting Amendment

AGENCY: Federal Aviation Administration (FAA), DOT.

ACTION: Final rule; correction; correcting amendment.

SUMMARY: The FAA is correcting a final rule published on December 13, 2016. In that rule, the FAA amended its regulations to allow operators to use an enhanced flight vision system (EFVS) in lieu of natural vision to continue descending from 100 feet above the touchdown zone elevation (TDZE) to the runway and to land on certain straight-in instrument approach procedures (IAPs) under instrument flight rules (IFR). As part of the final rule, the FAA inadvertently removed some regulatory text. This document corrects that error. Additionally, this document corrects the same error in an amendatory instruction of the EFVS final rule to ensure the correction to the regulation is retained when the regulation is subsequently amended on March 13, 2018.

DATES: The correcting amendment (amendatory instruction 2) is effective March 12, 2018. The correction to the final rule published at 81 FR 90126 (December 13, 2016), and delayed at 82 FR 9677 (February 8, 2017) is effective March 13, 2018.

FOR FURTHER INFORMATION CONTACT: Terry King, Flight Technologies and Procedures Division, Flight Standards Service, Federal Aviation Administration, 800 Independence Avenue SW, Washington, DC 20591; telephone (202) 267-8790; email Terry.King@faa.gov.

SUPPLEMENTARY INFORMATION:

Background

On December 13, 2016, the FAA published a final rule entitled, “Revisions to Operational Requirements for the Use of Enhanced Flight Vision Systems (EFVS) and to Pilot Compartment View Requirements for Vision Systems.” ¹ Prior to that final rule, the operating rules for EFVS operations to 100 feet above the TDZE were contained in § 91.175(l) and (m). In the EFVS final rule, which became effective, in part, on March 13, 2017, the FAA created new 14 CFR 91.176 to contain the operating rules for EFVS operations to touchdown and rollout and for EFVS operations to 100 feet above the TDZE.

¹ 81 FR 90126; corrected at 82 FR 2193, January 9, 2017; delayed at 82 FR 9677, February 8, 2017; corrected at 83 FR 1186, January 10, 2018; corrected at 83 FR 4420, January 31, 2018.

As explained in the preamble to the final rule, the FAA provided an adequate transition period for operators and pilots conducting EFVS operations to 100 feet above the touchdown zone elevation.² During this transition period, which concludes on March 13, 2018, a pilot may comply with either § 91.175(l) and (m) or § 91.176(b). Beginning on March 13, 2018, persons conducting EFVS operations to 100 feet above the TDZE must comply with § 91.176(b).

² 81 FR at 90154.

Section 91.175(e)(1) included a cross-reference to § 91.175(l) prior to the final rule. To accommodate the transition period, the FAA made a conforming amendment to § 91.175(e)(1), effective March 13, 2017, by adding a cross-reference to § 91.176. Additionally, to conform with the conclusion of the transition period, the FAA included instructions to amend § 91.175(e)(1), effective March 13, 2018, by removing the cross-reference to § 91.175(l).

Prior to the EFVS final rule, § 91.175(e)(1) allowed a pilot operating an aircraft, except a military aircraft of the United States, to immediately execute an appropriate missed approach procedure whenever operating under § 91.175(c) or (l) and the requirements of that paragraph are not met at either of the following times: (i) When the aircraft is being operated below MDA; or (ii) upon arrival at the missed approach point, including a DA/DH where a DA/DH is specified and its use is required, and at any time after that until touchdown.

In amending § 91.175(e)(1), the FAA did not intend to remove paragraphs (e)(1)(i) and (ii), which identify the following times referred to in paragraph (e)(1). However, the amendatory instruction advised the Office of the Federal Register to revise § 91.175(e)(1) and the regulatory text that accompanied the amendatory instruction failed to include paragraphs (e)(1)(i) and (ii). As a result, paragraphs (e)(1)(i) and (ii) were inadvertently removed from § 91.175. This error also occurs in amendatory instruction 18, which will amend § 91.175(e)(1) effective March 13, 2018.

The FAA intended only to update the cross references in § 91.175(e)(1) to coincide with the transition period and did not intend to remove paragraphs (e)(1)(i) and (ii). The FAA is therefore revising § 91.175(e)(1) by reinstating paragraphs (e)(1)(i) and (ii) accordingly. Additionally, in amendatory instruction 18 of the EFVS final rule,³ the FAA corrects the revisions to § 91.175(e)(1) by including the text of paragraphs (e)(1)(i) and (ii). These corrections ensure the paragraphs are retained when the cross-reference to § 91.175(l) is removed on March 13, 2018.

³ 81 FR at 90172.

Because this amendment results in no substantive change, the FAA finds that the notice and public procedures under 5 U.S.C. 553(b) are unnecessary. For the same reason, the FAA finds good cause exists under 5 U.S.C. 553(d)(3) to make the amendments effective in less than 30 days.

Federal Register Correction

Effective March 13, 2018, in rule document 2016-28714 at 81 FR 90126 in the issue of December 13, 2016, on page 90172, in the third column, in amendatory instruction 18, paragraph (e)(1) is corrected to read as follows:

§ 91.175 [Corrected]

(e) * * *

(1) Whenever operating an aircraft pursuant to paragraph (c) of this section or § 91.176 of this part, and the requirements of that paragraph or section are not met at either of the following times:

(i) When the aircraft is being operated below MDA; or

(ii) Upon arrival at the missed approach point, including a DA/DH where a DA/DH is specified and its use is required, and at any time after that until touchdown.

List of Subjects in 14 CFR Part 91

Air carrier, Air taxis, Aircraft, Airmen, Aviation safety, Transportation.

Correcting Amendment

For the reasons stated in the preamble, the Federal Aviation Administration amends chapter I of title 14, Code of Federal Regulations as follows:

PART 91—GENERAL OPERATING AND FLIGHT RULES

1. The authority citation for part 91 continues to read as follows:

Authority: 49 U.S.C. 106(f), 106(g), 1155, 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

2. In § 91.175, revise paragraph (e)(1) to read as follows:

§ 91.175 Takeoff and landing under IFR.

* * * * *

(e) * * *

(1) Whenever operating an aircraft pursuant to paragraph (c) or (l) of this section or § 91.176 of this chapter, and the requirements of that paragraph or section are not met at either of the following times:

(i) When the aircraft is being operated below MDA; or

(ii) Upon arrival at the missed approach point, including a DA/DH where a DA/DH is specified and its use is required, and at any time after that until touchdown.

* * * * *

Issued under the authority of 49 U.S.C. 106(f) and (g) and 44701(a) in Washington, DC, on March 6, 2018.
Lirio Liu,
Director, Office of Rulemaking.

[FR Doc. 2018-04888 Filed 3-9-18; 8:45 am]

BILLING CODE 4910-13-P